DEPARTMENT OF HEALTH AND HUMAN SERVICES

Centers for Disease Control and Prevention

[30Day-13-0612]

Agency Forms Undergoing Paperwork Reduction Act

The Centers for Disease Control and Prevention (CDC) publishes a list of information collection requests under review by the Office of Management and Budget (OMB) in compliance with the Paperwork Reduction Act (44 U.S.C. Chapter 35). To request a copy of these requests, call (404) 639-7570 or send an email to omb@cdc.gov. Send written comments to CDC Desk Officer, Office of Management and Budget, Washington, DC or by fax to (202) 395-5806. Written comments should be received within 30 days of this notice.

Proposed Project

Well-Integrated Screening and Evaluation for Women Across the Nation (WISEWOMAN) Reporting System (OMB #0920-0612, exp. 1/31/2014)—Revision—National Center for Chronic Disease Prevention and Health Promotion (NCCDPHP), Centers for Disease Control and Prevention (CDC).

Background and Brief Description

The WISEWOMAN program (Well-Integrated Screening and Evaluation for Women Across the Nation), administered by the Centers for Disease Control and Prevention (CDC), was established to examine ways to improve the delivery of services for women who have limited access to health care and elevated risk factors for cardio vascular disease (CVD). The program focuses on reducing CVD risk factors and provides screening services for selected risk factors such as elevated blood cholesterol, hypertension, and abnormal blood glucose levels. The program also provides women with referrals to lifestyle programs and medical care. The WISEWOMAN program currently provides services to approximately 45,000 women who are jointly enrolled in the National Breast and Cervical Cancer Early Detection Program (NBCCEDP), also administered by CDC. CDC collects information from WISEWOMAN awardees through the “WISEWOMAN Reporting System” (OMB No. 0920-0612, exp. 1/31/2014).

New WISEWOMAN cooperative agreements were awarded in 2013 and CDC seeks to continue information collection for three years, with revisions. The new funding period will reflect an increased emphasis on efficient oversight of program awardees and documenting program outcomes. As a result, the WISEWOMAN information collection will be revised to support updated program goals. Revisions to be implemented include a reduction in the frequency of progress report submission—from twice per year to once per year—and changes to the content of the Minimum Data Element (MDE) submissions. This will result in an overall net decrease in respondent burden. The first reports based on the revised reporting requirements will be submitted to CDC in April 2014.

The hardcopy progress report provides a narrative summary of each awardee's objectives and the activities undertaken to meet program goals, including public education and outreach. The estimated burden per response is 16 hours.

The MDE include information that describes risk factors for the women served in each program and the number and type of lifestyle program sessions they attend. MDE information has previously been submitted to CDC in two electronic transmissions. The burden for Screening and Assessment MDE was estimated at 16 hours per response and the burden for Lifestyle Program MDE was estimated at 8 hours per response.

Upon OMB approval of the proposed Revision, the MDE will be submitted as a single electronic file with a combined estimated burden per response of 24 hours. The total number of MDE variables will increase from 66 to 85. The number of variables relating to Lifestyle Programs will decrease and the number of variables relating to Screening and Assessment will increase.

CDC will continue to use the information collected from WISEWOMAN awardees to support continuous program monitoring and improvement activities, evaluation, and assessment of program outcomes. The overall program evaluation is designed to demonstrate how WISEWOMAN can obtain more complete health data on vulnerable populations, promote public education about disease incidence, cardiovascular disease risk-factors, health promotion, to improve the availability of screening and diagnostic services for under-served women, ensure the quality of services provided to under-served women, and develop strategies for improved interventions. Participation in this information collection is required as a condition of cooperative agreement funding. There are no costs to respondents other than their time.

The total annualized burden hours are 1,344.

Estimated Annualized Burden Hours
Type of respondent | Form name | Number of respondents | Number of responses per respondent | Average burden per response
WISEWOMAN Awardees | Screening and Assessment and Lifestyle Program MDE | 21 | 2 | 24
| Annual Progress Report | 21 | 1 | 16

Leroy A. Richardson,
Chief, Information Collection Review Office, Office of Scientific Integrity, Office of the Associate Director for Science, Office of the Director, Centers for Disease Control and Prevention.

[FR Doc. 2013-25450 Filed 10-28-13; 8:45 am]

BILLING CODE 4163-18-P